DEPARTMENT OF ENERGY

Federal Energy Regulatory Commission

[Docket Nos. CP04-223-000 and CP04-293-000]

KeySpan LNG, L.P.; Notice of Extension of the Scoping Period for the Proposed Keyspan Lng Facility Upgrade Project

June 17, 2004.

On May 11, 2004, the Commission issued a “Notice Of Intent To Prepare An Environmental Impact Statement For The Proposed KeySpan LNG Facility Upgrade Project, Request For Comments On Environmental Issues, And Notice Of Public Scoping Meeting” (NOI) in the above referenced dockets. The NOI initiated the time period for receiving filed comments and identified the comment period closing date as June 11, 2004.

United States Senators Jack Reed and Lincoln Chafee, and U.S. Representatives Patrick Kennedy and James Langevin, on behalf of constituents, have requested that additional time be made available in which to file environmental comments. Upon consideration, the scoping period has been extended until July 12, 2004.

Additionally, Algonquin Gas Transmission Company has filed an application, in Docket No. CP04-358-000, to construct and operate the planned interconnect pipeline described in the NOI. The Commission will accept environmental comments on the proposed pipeline within the above-referenced scoping period. Instructions for submitting comments are provided in the NOI.

FERC staff will also hold additional scoping meetings before the close of the scoping period. Meeting dates, locations, and times will be provided at a later date.

Linda Mitry,
Acting Secretary.

[FR Doc. E4-1409 Filed 6-23-04; 8:45 am]

BILLING CODE 6717-01-P